DEPARTMENT OF TRANSPORTATION

Federal Aviation Administration

Agency Information Collection Activities: Requests for Comments; Clearance of a New Approval of Information Collection: Information Regarding Ferry Flights in On-Demand Operations

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on August 30, 2013, vol. 78, no. 169, pages 53817-53818. The collection involves an assessment of the number of ferry flights typically conducted by on-demand air carriers and the costs associated with those flights. The information to be collected will be used to conduct a benefit cost analysis in connection with rulemaking as required by Congress.

DATES: Written comments should be submitted by January 13, 2014.

FOR FURTHER INFORMATION CONTACT: Martin Zhu at (202) 267-4110 or by email at: martin.zhu@faa.gov.

SUPPLEMENTARY INFORMATION: OMB Control Number: 2120-XXXX.

Title: Information Regarding Ferry Flights in On-Demand Operations.

Form Numbers: There are no FAA forms associated with this specific collection of information.

Type of Review: Clearance of a new information collection.

Background: In response to the FAA Modernization and Reform Act of 2012 (Public Law 112-95), the FAA will initiate a rulemaking to change part 91 tail-end ferry flight limitations and rest requirements. The rule would apply part 135 flight limitations and rest requirements to today's part 91 tail-end ferry flights (a part 91 flight following the last part 135 flight in a duty period). The FAA will use the results of this collection of information as the basis for the cost and benefit estimate of the proposed rule. The FAA requests comments on the proposed questions below in order to help assess costs.

Survey Questions

1. How many total part 135 operations do you have annually?

2. For comparative purposes, how many aircraft are flown in your part 135 services?

3. How many tail-end ferry flights flown under part 91 would be curtailed if pilots need to fly under part 135 of rest and duty requirements?

4. What percentage of these tail-end ferry flights would be accounted as single-pilot flights?

5. Would another crewmember fly the aircraft to its destination?

6. What would be the average cost of tail-end ferries flown under part 91 rules?

7. What would be the average cost of tail-end ferries flown under part 135 rest and duty rules?

8. Please itemize key cost-drivers to comply with the proposed rule.

Respondents: Part 135 operators conducting part 91 tail-end ferry flight. We estimate 2,155 of part 135 operators have such operations.

Frequency: One time.

Estimated Average Burden per Response: 60 minutes.

Estimated Total One-Time Burden: 2,155 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on December 6, 2013.
Albert R. Spence,
FAA Assistant Information Collection Clearance Officer, IT Enterprises Business Services Division, AES-200.

[FR Doc. 2013-29686 Filed 12-11-13; 8:45 am]

BILLING CODE 4910-13-P